Title 3—

The President

Memorandum of December 20, 2010

Delegation of Certain Functions and Authorities

Memorandum for the Director of the Office of Personnel Management

By the authority vested in me as President by the Constitution and the laws of the United States, including section 301 of title 3, United States Code, I hereby delegate to you the functions and authority conferred upon the President by section 7301 of title 5, United States Code, with respect to providing appropriate workplace accommodations for executive branch civilian employees who are nursing mothers.

You are authorized and directed to publish this memorandum in the Federal Register.

THE WHITE HOUSE,

Washington, December 20, 2010

[FR Doc. 2010-32463

Filed 12-22-10; 8:45 am]

Billing code 6325-01-P